DEPARTMENT OF LABOR

[OMB Control No. 1225-0077]

Proposed Extension of Information Collection; Nondiscrimination Compliance Information Reporting

AGENCY: Civil Rights Center, Labor.

ACTION: Request for public comments.

SUMMARY: The Department of Labor, as part of its continuing effort to reduce paperwork and respondent burden, conducts a pre-clearance request for comment to provide the general public and Federal agencies with an opportunity to comment on proposed collections of information in accordance with the Paperwork Reduction Act of 1995. This request helps to ensure that: requested data can be provided in the desired format; reporting burden (time and financial resources) is minimized; collection instruments are clearly understood; and the impact of collection requirements on respondents can be properly assessed. Currently, the Civil Rights Center (CRC) is soliciting comments on the information collection for Nondiscrimination Compliance Information Reporting

DATES: All comments must be received on or before December 12, 2023.

ADDRESSES: You may submit comment as follows. Please note that late, untimely filed comments will not be considered.

Electronic Submissions: Submit electronic comments in the following way:

• Federal eRulemaking Portal: https://www.regulations.gov. Comments submitted electronically, including attachments, to https://www.regulations.gov will be posted to the docket, with no changes. Because your comment will be made public, you are responsible for ensuring that your comment does not include any confidential information that you or a third party may not wish to be posted, such as your or anyone else's Social Security number or confidential business information.

• If your comment includes confidential information that you do not wish to be made available to the public, submit the comment as a written/paper submission.

Written/Paper Submissions: Submit written/paper submissions in the following way:

• Mail Delivery: Mail or visit DOL-CRC, Civil Rights Center, U.S. Department of Labor, 200 Constitution Avenue NW, Suite N4123, Washington, DC 20210.

• CRC will post your comment as well as any attachments, except for information submitted and marked as confidential, in the docket at https://www.regulations.gov.

FOR FURTHER INFORMATION CONTACT: Naomi Barry-Perez, Director, Civil Rights Center, U.S. Department of Labor at barry-perez.naomi@dol.gov (email); (202) 693-6500 (voice); or (202) 693-6505 (facsimile); or please dial 7-1-1 to access telecommunications relay services.

SUPPLEMENTARY INFORMATION:

I. Background

The Civil Rights Center (CRC), located within the Department of Labor's (DOL or the Department) Office of the Assistant Secretary for Administration and Management, is responsible for the enforcement of Section 188 of the Workforce Innovation and Opportunity Act (WIOA), which contains the Statute's nondiscrimination and equal opportunity provisions, and its implementing regulations at 29 CFR part 38.

In addition to WIOA, entities receiving any financial assistance from DOL are subject to four intersecting civil rights laws over which CRC has enforcement authority:

• Section 504 of the Rehabilitation Act of 1973, as amended, and DOL's implementing regulations at 29 CFR part 32;

• The Age Discrimination Act of 1972, as amended, and DOL's implementing regulations at 29 CFR part 35;

• Title IX of the Education Amendments of 1972, as amended, and DOL's implementing regulations at 29 CFR part 36; and,

• Title VI of the Civil Rights Act of 1964, as amended, and DOL's implementing regulations at 29 CFR part 31.

The paperwork burdens imposed by 29 CFR parts 38 and the respective intersecting civil rights laws, as well as other Federal statutory provisions and regulations, are applicable to entities subject to the laws enforced by CRC.

II. Desired Focus of Comments

CRC is soliciting comments concerning the proposed information collection related to the Nondiscrimination Compliance Information Reporting. CRC is particularly interested in comments that:

• Evaluate whether the collection of information is necessary for the proper performance of the functions of the Agency, including whether the information has practical utility;

• Evaluate the accuracy of CRC's estimate of the burden related to the information collection, including the validity of the methodology and assumptions used in the estimate;

• Suggest methods to enhance the quality, utility, and clarity of the information to be collected; and

• Minimize the burden of the information collection on those who are to respond, including through the use of appropriate automated, electronic, mechanical, or other technological collection techniques or other forms of information technology, e.g., permitting electronic submission of responses.

Background documents related to this information collection request are available at https://regulations.gov and at DOL-CRC located at Civil Rights Center, U.S. Department of Labor, 200 Constitution Avenue NW, Suite N4123, Washington, DC 20210. Questions about the information collection requirements may be directed to the person listed in the FOR FURTHER INFORMATION section of this notice.

III. Current Actions

This information collection request concerns Nondiscrimination Compliance Information Reporting. CRC has updated the data with respect to the number of respondents, responses, burden hours, and burden costs supporting this information collection request from the previous information collection request.

Type of Review: Revision of a currently approved collection.

Agency: Civil Rights Center.

OMB Number: 1225-0077.

Affected Public: Individuals or households.

Number of Respondents: 39,970.

Frequency: On occasion.

Number of Responses: 22,444,362.

Annual Burden Hours: 125,748 hours.

Annual Respondent or Recordkeeper Cost: $8,803,624.09.

CRC Forms: CRC Form DL 1-2014A, Complaint Information Form.

Comments submitted in response to this notice will be summarized in the request for Office of Management and Budget approval of the proposed information collection request; they will become a matter of public record and will be available at https://www.reginfo.gov.

Carolyn Angus-Hornbuckle,
Certifying Officer.

[FR Doc. 2023-22498 Filed 10-12-23; 8:45 am]

BILLING CODE 4510-04-P